DEPARTMENT OF EDUCATION

Notice of Proposed Information Collection Requests

AGENCY: Department of Education.

ACTION: Comment request.

SUMMARY: The Department of Education (the Department), in accordance with the Paperwork Reduction Act of 1995 (PRA) (44 U.S.C. 3506(c)(2)(A)), provides the general public and Federal agencies with an opportunity to comment on proposed and continuing collections of information. This helps the Department assess the impact of its information collection requirements and minimize the reporting burden on the public and helps the public understand the Department's information collection requirements and provide the requested data in the desired format. The Director, Information Collection Clearance Division, Regulatory Information Management Services, Office of Management, invites comments on the proposed information collection requests as required by the Paperwork Reduction Act of 1995.

DATES: Interested persons are invited to submit comments on or before November 15, 2010.

ADDRESSES: Comments may be submitted electronically to FAFSA.Comments@ed.gov. We also ask that you copy them to ICDocketMgr@ed.gov or mail to U.S. Department of Education, 400 Maryland Avenue, SW., LBJ, Washington, DC 20202-4537. Please note that written comments received in response to this notice will be considered public records.

SUPPLEMENTARY INFORMATION: Section 3506 of the Paperwork Reduction Act of 1995 (44 U.S.C. chapter 35) requires that Federal agencies provide interested parties an early opportunity to comment on information collection requests. The Director, Information Collection Clearance Division, Regulatory Information Management Services, Office of Management, publishes this notice containing proposed information collection requests at the beginning of the Departmental review of the information collection. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology.

Dated: September 13, 2010.
Darrin A. King,
Director, Information Collection Clearance Division, Regulatory Information Management Services, Office of Management.

Federal Student Aid

Type of Review: Revision.

Title of Collection: 2011-2012 Federal Student Aid Application.

OMB Control Number: 1845-0001.

Agency Form Number(s): N/A.

Frequency of Responses: Annually.

Affected Public: Individuals or households.

Total Estimated Number of Annual Responses: 35,818,915.

Total Estimated Number of Annual Burden Hours: 32,239,328.

Abstract: Public Law 89-329, Sections 401-495, the Higher Education Act of 1965, as amended (HEA), mandates that the Secretary of Education “* * * shall produce, distribute, and process free of charge common financial reporting forms as described in this subsection to be used for application and reapplication to determine the need and eligibility of a student for financial assistance.”

The determination of need and eligibility are for the following Title IV, HEA, federal student financial assistance programs: The Federal Pell Grant Program; the Campus-Based programs (Federal Supplemental Educational Opportunity Grant (FSEOG), Federal Work-Study (FWS), and the Federal Perkins Loan Program); the William D. Ford Federal Direct Loan Program; the Teacher Education Assistance for College and Higher Education (TEACH) Grant; and the Iraq and Afghanistan Service Grant.

Federal Student Aid, an office of the U.S. Department of Education (hereafter “the Department”), subsequently developed an application process to collect and process the data necessary to determine a student's eligibility to receive Title IV, HEA program assistance. The application process involves an applicant's submission of the Free Application for Federal Student Aid (FAFSA). After submission of the FAFSA, an applicant receives a Student Aid Report (SAR) which is a summary of the data they submitted on the FAFSA. The applicant reviews the SAR, and, if necessary, will make corrections or updates to their submitted FAFSA.

The Department seeks OMB approval of all application components as a single “collection of information.” The aggregate burden will be accounted for under OMB Control Number 1845-0001, currently assigned to the FAFSA form. The specific application components, descriptions and submission methods for each are listed in Table 1.

Table 1—Federal Student Aid Application Components
Component | Description | Submission method
Initial Submission of FAFSA
FAFSA on the Web (FOTW) | Online FAFSA that offers applicants a customized experience | Submitted by the applicant via http://www.fafsa.gov.
FOTW—Renewal | Online FAFSA for applicants who have previously completed the FAFSA
FOTW—EZ | Online FAFSA for applicants who qualify for the Simplified Needs Test (SNT) or Automatic Zero (Auto Zero) needs analysis formulas
FOTW—EZ Renewal | Online FAFSA for applicants who have previously completed the FAFSA and who qualify for the SNT or Auto Zero needs analysis formulas
FAFSA on the Phone (FOTP) | The Federal Student Aid Information Center (FSAIC) representatives assist applicants by filing the FAFSA on their behalf through FOTW | Submitted through http://www.fafsa.gov for applicants who call 1-800-4-FED-AID.
FOTP—EZ | FSAIC representatives assist applicants who qualify for the SNT or Auto Zero needs analysis formulas by filing the FAFSA on their behalf through FOTW
FAA Access | Online tool that a financial aid administrator (FAA) utilizes to submit a FAFSA | Submitted through http://www.faaacess.ed.gov by a FAA on behalf of an applicant.
FAA Access—Renewal | Online tool that a FAA can utilize to submit a Renewal FAFSA
FAA Access—EZ | Online tool that a FAA can utilize to submit a FAFSA for applicants who qualify for the SNT or Auto Zero needs analysis formulas
FAA Access—EZ Renewal | Online tool that a FAA can utilize to submit a FAFSA for applicants who have previously completed the FAFSA and who qualify for the SNT or Auto Zero needs analysis formulas
Electronic Other | This is a submission done by a FAA, on behalf of the applicant, using the Electronic Data Exchange (EDE) | The FAA may be using their mainframe computer or software to facilitate the EDE process.
PDF FAFSA or Paper FAFSA | The paper version of the FAFSA printed by the Department for applicants who are unable to access the Internet or the online PDF FAFSA for applicants who can access the Internet but are unable to complete the form using FOTW | Mailed by the applicant.
Correcting Submitted FAFSA Information and Reviewing FAFSA Information
FOTW—Corrections | Any applicant who has a Federal Student Aid PIN (FSA PIN)—regardless of how they originally applied—may correct using FOTW Corrections | Submitted by the applicant via http://www.fafsa.gov.
Electronic Other—Corrections | With the applicant's permission, corrections can be made by a FAA using the EDE | The FAA may be using their mainframe computer or software to facilitate the EDE process.
Paper SAR—This is a SAR and an option for corrections. | The full paper summary that is mailed to paper applicants who did not provide an e-mail address, to applicants who did not sign their application and to applicants whose records were rejected during processing because the Social Security Number did not match with the SSA. Applicants can write corrections directly on the paper SAR and mail for processing | Mailed by the applicant.
FAA Access—Corrections | An institution can use FAA Access to correct the FAFSA | Submitted through http://www.faaacess.ed.gov by a FAA on behalf of an applicant.
Internal Department Corrections | The Department will submit an applicant's record for system generated corrections | There is no burden to the applicants under this correction type as these are system based corrections.
FSAIC Corrections | Any applicant, with their Data Release Number (DRN), can change the postsecondary institutions listed on their FAFSA or change their address by calling FSAIC | These changes are made directly in the CPS system by a FSAIC representative.
SAR Electronic (eSAR) | This is the PDF version of the SAR for applicants who applied electronically or by paper and provided an e-mail address | Cannot be submitted for processing.
SAR Acknowledgment | This is the condensed paper SAR that is mailed to applicants who applied electronically but did not provide an e-mail address

This information collection also documents an estimate of the annual public burden. The updated estimates are the result of the Department's efforts to more accurately determine the public's burden as it relates to the application process for Federal student aid. The findings have led to the development of the Applicant Burden Model (ABM), which measures applicant burden through an assessment of the activities each applicant conducts in conjunction with other characteristics of the applicant. The ABM has been designed to more accurately describe, in terms of burden, the average applicant's experience. Key determinants of the ABM include:

• The total number of applicants that will potentially apply for Federal student aid;

• How the applicant chooses to complete and submit the FAFSA, e.g., by paper or electronically via FOTW;

• How the applicant chooses to submit any corrections and/or updates (e.g., the paper SAR or electronically via FOTW Corrections);

• The type of SAR document the applicant receives (paper SAR, SAR acknowledgment, or the eSAR);

• The formula applied to determine the applicant's EFC (full need analysis formula, Simplified Needs Test or Automatic Zero); and

• The average amount of time involved in preparing to complete the application.

The ABM is largely driven by the number of potential applicants for the application cycle. The total application projection for 2011-2012 is based upon two factors—estimates of the total enrollment in all degree-granting institutions and the percentage change in FAFSA submissions for the last completed application cycle. This results in an estimate of 23,611,500 total applicants that will submit a FAFSA for 2011-2012.

The ABM is also largely based on the application options available to students and parents. In assessing the application options available, the Department recognized a need to restructure the current breakdown of the application components and revise the burden estimates for each application component based on a recently implemented web trending tool, FOTW survey information, and other Department data sources. The ABM changes the classification of the application components and combines the two previously separate collections for the FAFSA and the SAR. The final application components were listed in Table 1. These changes create a one-time re-alignment of the methodology, but do not reflect any change in the actual burden experienced by applicants. The changes have allowed the Department to utilize more controlled and accurate data for its burden calculations.

Another critical element included in the ABM is the anticipated impacts of the Department's enhancements to the application process and application products. In an ongoing effort for process improvement, the Department routinely conducts a review of the application data elements to identify questions that could be revised or removed. As a result, for 2011-2012, two questions have been deleted from the application.

Also for 2011-2012, FOTW will be further improved by the implementation of significant enhancements facilitated by a web technology upgrade. The upgraded application will include new features including a redesigned homepage and more dynamic and personalized navigation. In addition, there will be improved and simplified functionality for users that need to correct or update their FAFSA data using FAFSA Corrections.

FOTW will also expand the offering of the IRS Data Retrieval tool to more users in 2011-2012 by offering the tool earlier in the application cycle and offering the tool in FAFSA Corrections. Beginning in January of 2010, the Department began offering FOTW applicants the IRS Data Retrieval tool which significantly simplifies the completion of the FAFSA for many applicants. The IRS Data Retrieval tool is an optional service that provides the applicant and their parents, if parental information is required, access to view the IRS tax information required to complete the FAFSA. The applicant can also securely transfer the IRS information into the FAFSA. The tool saves time and increases the accuracy of the data submitted.

The Department has assessed that these simplification efforts over the last year, in addition to planned enhancements that will be deployed on January 1, 2011 for 2011-2012 cycle, will produce an overall reduction in burden. To understand the decrease in burden we should state that the decrease is even more notable because it is offset by the overall increase in the number of applicants choosing to attend college and apply for federal student aid.

For 2010-2011, the Department estimated that 21,696,675 applicants would complete the application. This led to a total burden estimate of 33,774,347 hours. The 2010-2011 FAFSA information collection (OMB Control # 1845-0001) was approved for 26,781,074 hours and the 2010-2011 SAR information collection (OMB Control # 1845-0008) was approved for 6,993,273 hours. Table 2 demonstrates what the burden would have been for the FAFSA and SAR collection in 2011-2012 if only the increase in applicants was taken into account.

Table 2—Burden Baseline for 2011-2012—Accounting Only for Increase in Applicants
| 2010-2011 | Baseline—2011-2012 | Change | Percentage Change
Total Number of Applicants (Respondents) | 21,696,675 | 23,611,500 | 1,914,825 | 8.83
FAFSA Annual Burden (Hours) | 26,781,074 | 30,034,682 | 3,253,608 | 12.15
SAR Annual Burden (Hours) | 6,993,273 | 7,610,459 | 617,186 | 8.83
Annual Burden | 33,774,347 | 37,645,141 | 3,870,794 | 11.46

As shown in Table 2, if no other changes had been made to the application process and the burden was calculated taking into account only the 8.83% increase in applicants; the burden would have increased by 11.46%. This translates into a burden adjustment of 3,870,794 hours.

Now that we have accounted for the burden change based solely on the increase in applicants, we can compare that figure to the actual burden calculated for 2011-2012. The Department's final total estimated burden for 2011-2012, which is 32,239,328, hours reflects all of the distinct application components combined into one information collection. The burden baseline for 2011-2012 based solely on the increase in applicants was 37,645,141 hours. Table 3 shows the difference in the two calculations.

Table 3—Burden Baseline compared to Final Burden
| Baseline—2011-2012 | Final—2011-2012 | Change | Percentage Change
Total Number of Applicants (Respondents) | 23,611,500 | 23,611,500 | 0 | 0
Annual Burden | 37,645,141 | 32,239,328 | 5,405,813 | −14.36

Table 3 also demonstrates the reduction in the public burden as a result of the simplification initiatives developed and implemented by the Department. The burden decrease is 14.36%, the largest in several years, and translates into a program change decrease of more than 5.4 million hours.

Lastly, Table 4, depicts the overall burden change in total burden hours from 2010-2011 to 2011-2012.

Table 4—Comparison of 2010-2011 Overall Burden to 2011-2012 Overall Burden
| 2010-2011 | Final—2011-2012 | Change | Percentage Change
Total Number of Applicants (Respondents) | 21,696,675 | 23,611,500 | 1,914,825 | 8.83
Annual Burden | 33,774,347 | 32,239,328 | −1,535,019 | −4.54

This results in an overall program change reduction of 1,535,019 hours when compared to 2010-2011. As stated previously, this reduction is attributed to the simplification enhancements which include the redesign of FAFSA on the Web application submission, the availability of the IRS Data Retrieval Tool, a simplified FOTW homepage, more personalized navigation, and lastly, improved and simplified functionality for users that need to correct or update their FAFSA data through FOTW Corrections.

Requests for copies of the proposed information collection request may be accessed from http://edicsweb.ed.gov, by selecting the “Browse Pending Collections” link and by clicking on link number 4391. When you access the information collection, click on “Download Attachments” to view. Written requests for information should be addressed to U.S. Department of Education, 400 Maryland Avenue, SW., LBJ, Washington, DC 20202-4537. Requests may also be electronically mailed to ICDocketMgr@ed.gov or faxed to 202-401-0920. Please specify the complete title of the information collection and OMB Control Number when making your request.

Individuals who use a telecommunications device for the deaf (TDD) may call the Federal Information Relay Service (FIRS) at 1-800-877-8339.

[FR Doc. 2010-23175 Filed 9-15-10; 8:45 am]

BILLING CODE 4000-01-P